GENERAL SERVICES ADMINISTRATION

Office of Communications; Cancellation of an Optional Form by the Department of State

AGENCY: Office of Communications, GSA.

ACTION: Notice.

SUMMARY: The Department of State cancelled the following Optional Form: OF 156K, Nonimmigrant Fiance(e) Visa Application.

This form is now a State Department form (DS Form 2052). You can request copies of the new form from: Department of State, A/RPS/DIR, SA-22, 18th and G Streets, NW; Suite 2400, Washington, DC 20520-2201, 202.312.9605.

DATES: Effective September 24, 2001.

FOR FURTHER INFORMATION CONTACT: Mr. Charles Cunningham, Department of State, 202.312.9605.

Dated: September 17, 2001.
Barbara M. Williams,
Deputy Standard and Optional Forms Management Officer, General Services Administration.

[FR Doc. 01-23758 Filed 9-21-01; 8:45 am]

BILLING CODE 6820-34-M